GENERAL SERVICES ADMINISTRATION

Maximum Per Diem Rates for the Continental United States (CONUS)

AGENCY: Office of Governmentwide Policy, General Services Administration (GSA).

ACTION: Notice of Per Diem Bulletin 04-1, Fiscal Year (FY) 2004 continental United States (CONUS) per diem rates.

SUMMARY: An analysis of lodging and meal cost survey data reveals that the FY 2004 maximum per diem rates for locations within the continental United States (CONUS) should be updated to provide for the reimbursement of Federal employees' expenses covered by per diem. Per Diem Bulletin 04-1 increases/decreases the maximum lodging amounts in certain existing per diem localities, adds new per diem localities, and increases the incidental expenses from $2 to $3 for all per diem localities. The per diems prescribed in Bulletin 04-1 may be found at http://www.gsa.gov/perdiem. In an effort to improve the ability of the per diem rates to meet the lodging demands of Federal travelers to high cost travel locations, the General Services Administration (GSA) has integrated the contracting mechanism of the new Federal Premier Lodging Program (FPLP) into the per diem rate-setting process. The FPLP continues to grow as GSA has awarded virtually all contracts in the top 70 Federal metropolitan travel destinations. The FPLP enhances the Government's ability to better meet its overall room night demand and allows travelers to find lodging close to where they need to conduct business. If a CONUS per diem rate is insufficient to meet necessary expenses bulletin 04-1 also contains a listing of pertinent lodging and meal cost data that must be submitted through an agency requesting a location be resurveyed.

DATES: This notice is effective October 1, 2003, and applies for travel performed on or after October 1, 2003.

FOR FURTHER INFORMATION CONTACT: For clarification of content, contact Patrick McConnell, Office of Governmentwide Policy, Travel Management Policy, at (202) 501-2362. Please cite Notice of Per Diem Bulletin 04-1.

SUPPLEMENTARY INFORMATION:

A. Background

After an analysis of additional data, GSA has determined that current lodging and meals and incidental expenses (M&IE) allowances for certain localities do not adequately reflect the cost of lodging in those areas.

B. Change in Standard Procedure

GSA will issue/publish the CONUS per diem rates, formerly published in appendix A to 41 CFR chapter 301, solely on the Internet at http://www.gsa.gov/perdiem. This new process ensures timely increases or decreases in per diem rates established by GSA for Federal employees on official travel within CONUS. Notices published periodically in the Federal Register, such as this one, now constitute the only notification of revisions in CONUS per diem rates to agencies.

Dated: August 22, 2003.
John Sindelar,
Deputy Associate Administrator.

[FR Doc. 03-22107 Filed 8-28-03; 8:45 am]

BILLING CODE 6820-14-M